FEDERAL COMMUNICATIONS COMMISSION

Notice of Public Information Collection(s) Being Reviewed by the Federal Communications Commission, Comments Requested.

AGENCY: Federal Communications Commission.

ACTION: Notice; request for comments.

SUMMARY: As part of its continuing effort to reduce paperwork burden and as required by the Paperwork Reduction Act (PRA) of 1995 (44 U.S.C. 3501-3520), the Federal Communications Commission (FCC) invites the general public and other Federal agencies to take this opportunity to comment on the following information collection(s). Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and further ways to reduce the information burden for small business concerns with fewer than 25 employees. The FCC may not conduct or sponsor a collection of information unless it displays a currently valid OMB Control Number. No person shall be subject to any penalty for failing to comply with a collection of information subject to the Paperwork Reduction Act (PRA) that does not display a valid Control Number.

DATES: Written Paperwork Reduction Act (PRA) comments should be submitted on or before October 14, 2014. If you anticipate that you will be submitting comments, but find it difficult to do so within the period of time allowed by this notice, you should advise the FCC contact listed below as soon as possible.

ADDRESSES: Submit your PRA comments to Leslie F. Smith, Office of Managing Director (OMD), Federal Communications Commission (FCC), via the Internet at Leslie.Smith@fcc.gov. To submit your PRA comments by email, send them to PRA@fcc.gov.

FOR FURTHER INFORMATION CONTACT: For additional information, contact Leslie F. Smith at (202) 418-0217, or via the Internet at PRA@fcc.gov.

SUPPLEMENTARY INFORMATION:

OMB Control Number: 3060-XXXX.

Title: FCC Frequent Visitor Building Identification (ID) Badge Database, FCC Form 210.

Form Number: FCC Form 210.

Type of Review: New information collection.

Respondents: Business or other for-profit; Institutions; State, local, and tribal Governments; and Individuals. (Will Federal employees from other agencies need to participate in this program, or will there be some other arrangements for them as “frequent visitors?”)

Number of Respondents and Responses: 1,000 respondents; 1,000 responses.

Estimated Time per Response: 40 hours.

Frequency of Response: One time; and on occasion reporting requirements (if an individual has to have another background investigation done after the initial one is done later, e.g., if their situation requires a new background investigation/screening).

Obligation to Respond: Required to obtain or retain benefits (the background investigation is required to obtain the “FCC Frequent Visitor Building ID Badge”). Statutory authority for this collection of information is contained in 5 U.S.C. 301; 6 U.S.C. 202; 8 U.S.C. 1103, 1158, 1201, 1324, 1357, 1360, 1365a, 1365b, 1372, 1379, 1732; Federal Information Security Act (Pub. L. 104-106, sec. 5113); Electronic Government Act (Pub. L. 104-347, sec. 203); and Federal Property and Administrative Act of 1949, as amended. (these are the cites from the system of records notice: FCC/OMD-30 “FCC Visitors Database”)

Total Annual Burden: 40,000 hours. (1,000 background investigations @40 hours/investigation)

Annual Cost Burden: $500,000. (1,000 background investigations @$500/investigation)

Privacy Act Impact Assessment: The FCC Visitors Database PIA is posted at: http://www.fcc.gov/encyclopedia/privacy-act-information#pia. The Commission intends to update the PIA upon OMB's approval of this information collection and the system of records notice.

Nature and Extent of Confidentiality: The information that the FCC will collect from individuals who choose to participate in the Frequent Visitors Program is covered by a system of records notice (SORN), FCC/OMD-30, “FCC Visitors Database,” at: http://www.fcc.gov/encyclopedia/privacy-act-information#systems. The FCC is in the process of altering this SORN to cover this additional information that individuals will be required to provide to the Commission to obtain their FCC Frequent Visitors Identification Badge. In addition, respondents may also request confidentiality protection for other non-PII that may be collected as part of this information collection.

Needs and Uses: The FCC (and all Federal agencies) have a minimal, standard security screening process that all individuals (who are not FCC employees or contractors) must go through before they may receive a “visitor's pass” that allows them to enter the Commission's headquarters and facilities. Individuals who are frequent and regular visitors to the Commission have requested that the FCC to create a background investigation and screening process that provides them with a “FCC Frequent Visitor Building Identification (ID) Badge” that will allow them to enter the Commission headquarters and facilities without having to go through the standard visitor's security screening process each time that they come to the FCC headquarters and facilities for Commission meetings, conferences, and other functions and activities. The FCC Frequent Visitors Building ID Badge system will also allow these individuals, as “frequent and regular visitors,” to have greater access to the FCC facilities, i.e., they will not be required to have a FCC employee accompany them in their movements in the FCC's buildings and facilities.

The FCC is expanding the existing FCC Visitors Database system to house the additional information (including PII), which these individual will provide who will undergo a background investigation and a security screening similar to the Federal background and security screening process that all FCC employees must undergo when they are hired to work at the FCC headquarters and facilities.

Federal Communications Commission.
Marlene H. Dortch,
Secretary, Office of the Secretary, Office of the Managing Director.

[FR Doc. 2014-19294 Filed 8-14-14; 8:45 am]

BILLING CODE 6712-01-P